DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 25, 2003.

Interested persons are invited to submit written comments regarding the subject matter of the investigations to the Director, Division of Trade Adjustment Assistance, at the address shown below, not later than August 25, 2003.

The petitions filed in this case are available for inspection at the Office of the Director, Division of Trade Adjustment Assistance, Employment and Training Administration, U.S. Department of Labor, Room C-5311, 200 Constitution Avenue, NW., Washington, DC 20210.

Signed at Washington, DC, this 28th day of July, 2003.
Timothy Sullivan,
Director, Division of Trade Adjustment Assistance.

Appendix
[Petitions Instituted Between 07/21/2003 and 07/25/2003]
TA-W | Subject firm (petitioners) | Location | Date of institution | Date of petition
52,349 | Terry Apparel (AR) | Marianna, AR | 07/21/2003 | 07/18/2003
52,350 | Fisher Controls International, LLC (Comp) | Sherman, TX | 07/21/2003 | 07/18/2003
52,351 | Waterbury Companies, Inc. (Comp) | Randolph, VT | 07/21/2003 | 07/18/2003
52,352 | Computer Sciences Corp. (TX) | Austin, TX | 07/21/2003 | 07/18/2003
52,353 | Nevamar Company, LLC (Comp) | Waverly, VA | 07/21/2003 | 07/18/2003
52,354 | Molex Fiber Optics (Comp) | Downers Grove, IL | 07/21/2003 | 07/21/2003
52,355 | Honeywell, Inc. (Wkrs) | Cupertino, CA | 07/21/2003 | 07/10/2003
52,356 | Jo-Bo, Inc. (Comp) | Georgetown, SC | 07/21/2003 | 06/30/2003
52,357 | Motorola (Wkrs) | Libertyville, IL | 07/21/2003 | 06/30/2003
52,358 | JDS Uniphase (Wkrs) | Rochester, MN | 07/21/2003 | 07/21/2003
52,359 | Swag-Nit, Inc. (Comp) | Mt. Holly, NC | 07/21/2003 | 06/23/2003
52,360 | Coats North America (Comp) | Rosman, NC | 07/21/2003 | 07/18/2003
52,361 | EXFO Burleigh Products Group, Inc. (Comp) | Victor, NY | 07/21/2003 | 07/10/2003
52,362 | Cookson Electronics (NJ) | Jersey City, NJ | 07/21/2003 | 07/18/2003
52,363 | FSI International (Wkrs) | Allen, TX | 07/21/2003 | 07/18/2003
52,364 | Meridian Beartrack Company (Comp) | Salmon, ID | 07/22/2003 | 07/21/2003
52,365 | Teleflex Automotive, Inc. (Wkrs) | Van Wert, OH | 07/22/2003 | 07/21/2003
52,366 | Marge Carson (CA) | Rosemead, CA | 07/22/2003 | 07/21/2003
52,367 | Honeywell (Wkrs) | Millinocket, ME | 07/22/2003 | 07/21/2003
52,368 | Fasco Motors (Comp) | Hillsdale, MI | 07/22/2003 | 07/16/2003
52,369 | Hopper Radio (Wkrs) | Weston, FL | 07/22/2003 | 07/10/2003
52,370 | Thomson Crown Wood Products (Comp) | Mocksville, NC | 07/22/2003 | 07/14/2003
52,371 | Thomasville Furniture Industries (Wkrs) | Hickory, NC | 07/22/2003 | 07/21/2003
52,372 | Code Alarm/Code Systems (MI) | Troy, MI | 07/22/2003 | 07/21/2003
52,373 | Agilent Technologies (Wkrs) | Ft. Collins, CO | 07/22/2003 | 07/16/2003
52,374 | Ellwood City Forge (Comp) | Ellwood City, PA | 07/23/2003 | 07/23/2003
52,375 | Sanmina SCI Corporation (Wkrs) | Huntsville, AL | 07/23/2003 | 07/22/2003
52,376 | Delphi Corporation (Wkrs) | Kettering, OH | 07/23/2003 | 07/22/2003
52,377 | Weyerhaeuser Company (Comp) | Rothschild, WI | 07/23/2003 | 07/23/2003
52,378 | Hitachi Automotive Products, Inc. (Wkrs) | Harrodsburg, KY | 07/23/2003 | 07/17/2003
52,379 | Marity (Wkrs) | Fenton, MO | 07/23/2003 | 07/22/2003
52,380 | Precision Roll Grinders, Inc. (Wkrs) | Allentown, PA | 07/24/2003 | 07/18/2003
52,381 | Belding Hausman, Inc. (Comp) | Lincolntown, NC | 07/24/2003 | 07/22/2003
52,382 | Mar-Bax Shirt Co., Capital Mercury Appar (AR) | Gassville, AR | 07/24/2003 | 07/23/2003
52,383 | AG Communication System (Wkrs) | Phoenix, AZ | 07/24/2003 | 07/17/2003
52,384 | Slater Screen Print Corporation (Wkrs) | Pawtucket, RI | 07/24/2003 | 07/23/2003
52,385 | Derby Fabricating (Comp) | Galesburg, IL | 07/24/2003 | 07/23/2003
52,386 | F/V Family Pride (Comp) | Kodiak, AK | 07/25/2003 | 07/24/2003
52,387 | F/V Viking (Comp) | Cordova, AK | 07/25/2003 | 07/23/2003
52,388 | RP Adams Company, Inc. (USWA) | Tonawanda, NY | 07/25/2003 | 07/17/2003
52,389 | Master Carvers of Jamestown (Wkrs) | Jamestown, NY | 07/25/2003 | 07/16/2003
52,390 | Eaton (Comp) | Ann Arbor, MI | 07/25/2003 | 07/11/2003
52,391 | GE Industrial Systems (Wkrs) | Mebane, NC | 07/25/2003 | 07/21/2003
52,392 | Chromalox, Inc. (Comp) | Ogden, UT | 07/25/2003 | 07/23/2003
52,393 | Keane, Inc. (Wrkrs) | Cypress, CA | 07/25/2003 | 07/15/2003
52,394 | Guilford East (Wkrs) | Wallace, NC | 07/25/2003 | 07/21/2003
52,395 | Cross USA (Wkrs) | Watford City, ND | 07/25/2003 | 07/25/2003
52,396 | Phoenix Technologies, LTD (Wkrs) | Irvine, CA | 07/25/2003 | 06/17/2003
52,397 | Oxford Textile (NJ) | Oxford, NJ | 07/25/2003 | 07/10/2003
52,398 | American Racing (Comp) | Rancho Dominque, CA | 07/25/2003 | 07/17/2003
52,399 | Morelock Enterprises (OR) | Bend, OR | 07/25/2003 | 07/24/2003
52,400 | Kollsman, Inc. (Wkrs) | Merrimark, NH | 07/25/2003 | 06/06/2003
52,401 | Ivaco Steel Processing (Wkrs) | Tonawanda, NY | 07/25/2003 | 07/24/2003
52,402 | Sanmina—SCI (Comp) | Westbrook, ME | 07/25/2003 | 07/17/2003
52,403 | Jones Equipment (Wkrs) | Missoula, MT | 07/25/2003 | 07/24/2003
52,404 | Curtis Specialty Papers (Comp) | Port Huron, MI | 07/25/2003 | 07/24/2003
52,405 | Matheson Tri-Gas (Comp) | San Antonio, TX | 07/25/2003 | 07/24/2003
52,406 | Major Wire and Conductor International (IBEW) | Chicopee, MA | 07/25/2003 | 07/17/2003

[FR Doc. 03-20718 Filed 8-13-03; 8:45 am]

BILLING CODE 4510-30-M